NEIGHBORHOOD REINVESTMENT CORPORATION

Annual Board of Directors Meeting; Sunshine Act

TIME AND DATE: 1 p.m., Wednesday, June 1, 2011.

PLACE: 1325 G Street, NW., Suite 800, Boardroom, Washington, DC 20005.

STATUS: Open.

CONTACT PERSON FOR MORE INFORMATION: Erica Hall, Assistant Corporate Secretary, (202) 220-2376; ehall@nw.org.

AGENDA:

I. Call to Order

II. Approval of the Board of Directors Minutes

III. Approval of the Audit Committee Minutes

IV. Approval of the Finance, Budget & Program Committee Minutes

V. Approval of the Corporate Administration Committee Minutes

VI. Two Board Matters

VII. Board Elections and Appointments

VIII. Approval of the FY 2010 Audit

IX. Financial Reports

X. National Foreclosure Mitigation Counseling (NFMC)—Round 5

XI. Management Report

XII. Community Housing Capital

XIII. Strategic Plan—Update and Process

XIV. Adjournment

Erica Hall,
Assistant Corporate Secretary.

[FR Doc. 2011-13305 Filed 5-25-11; 11:15 am]

BILLING CODE 7570-02-P